ENVIRONMENTAL PROTECTION AGENCY

[EPA-HQ-OPP-2013-0744; FRL-9906-01]

Migratory Bird Treaty Act; Memorandum of Understanding

AGENCY: Environmental Protection Agency (EPA).

ACTION: Notice.

SUMMARY: EPA is announcing the availability of the draft Memorandum of Understanding (MOU) between the Environmental Protection Agency, Office of Pesticide Programs (OPP) and the Department of the Interior, U.S. Fish and Wildlife Service (FWS) regarding implementation of Executive Order 13186, “Responsibilities of Federal Agencies to Protect Migratory Birds” for public comment. The purpose of this MOU is to promote the conservation of migratory bird populations through enhanced collaboration between EPA's OPP and FWS regarding actions carried out by OPP. Migratory birds are an important component of biological diversity, and as such, conserving them and their habitats supports ecological integrity, contributes to public conservation education, and enhances the growing interest in outdoor recreation opportunities. This MOU is an important first step in ensuring that pesticide use is consistent with these conservation goals.

DATES: Comments must be received on or before March 7, 2014.

ADDRESSES: Submit your comments, identified by docket identification (ID) number EPA-HQ-OPP-2013-0744, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Catherine Eiden, Pesticide Re-Evaluation Division (7508P), Office of Pesticide Programs, Environmental Protection Agency, 1200 Pennsylvania Ave. NW., Washington, DC 20460-0001; telephone number: (703) 305-7887; fax number: (703) 308-8005; email address: eiden.catherine@epa.gov.

SUPPLEMENTARY INFORMATION:

I. General Information

A. Does this action apply to me?

Potentially affected entities may include, but are not limited to:

• Crop production (NAICS code 111).

• Animal production (NAICS code 112).

• Food manufacturing (NAICS code 311).

• Pesticide manufacturing (NAICS code 32532).

• Non-governmental organizations interested in bird conservation.

The listing of North American Industrial Classification System (NAICS) codes is not intended to be exhaustive, but rather provides a guide to help readers determine whether this document applies to them.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR Part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What action is the agency taking?

EPA is announcing the availability for public comment of the draft MOU between the Environmental Protection Agency, OPP and the Department of the Interior, FWS regarding the implementation of Executive Order 13186, “Responsibilities of Federal Agencies to Protect Migratory Birds.” A copy of this document can be found at http://www.regulations.gov under docket ID number EPA-HQ-OPP-2013-0744. The document describes internal procedural guidance to Federal agency staff to assist them in carrying out their activities.

B. Why is the agency taking this action?

EPA is taking this action pursuant to the implementation of Executive Order 13186, “Responsibilities of Federal Agencies to Protect Migratory Birds” (66 FR 3853, January 17, 2001).

List of Subjects

Environmental protection, conservation, migratory birds, pesticides.

Dated: January 28, 2014.
Steven Bradbury,
Director, Office of Pesticide Programs.

[FR Doc. 2014-02296 Filed 2-4-14; 8:45 am]

BILLING CODE 6560-50-P